FEDERAL MARITIME COMMISSION

Ocean Transportation Intermediary License Revocations

The Commission gives notice that the following Ocean Transportation Intermediary licenses have been revoked pursuant to section 19 of the Shipping Act of 1984 (46 U.S.C. 40101) effective on the date shown.

License No.: 4483NF.

Name: Hag International, L.L.C.

Address: 148 Deer Trail North, Ramsey, NJ 07446.

Date Revoked: December 31, 2012.

Reason: Voluntary Surrender of License.

License No.: 004580F.

Name: Express Lanes International, Inc.

Address: 401 Broadway, Suite 1208, New York, NY 10013.

Date Revoked: December 29, 2012.

Reason: Failed to maintain a valid bond.

License No.: 009799N.

Name: Cargo One Inc. dba Cargo One.

Address: 287 Northern Blvd., Suite 204, Great Neck, NY 11021.

Date Revoked: December 28, 2012.

Reason: Failed to maintain a valid bond.

License No.: 16841N.

Name: FRS Freight Services, Inc.

Address: 69-05 Roosevelt Avenue, Woodside, NY 11377.

Date Revoked: December 19, 2012.

Reason: Voluntary Surrender of License.

License No.: 017697F.

Name: Ireh Logistic Services Inc.

Address: 488 East Ocean Blvd., Suite 702, Long Beach, CA 90802.

Date Revoked: December 27, 2012.

Reason: Failed to maintain a valid bond.

License No.: 017719F.

Name: Sunjin Shipping (U.S.A.), Inc.

Address: 149-15 177th Street, Jamaica, NY 11434.

Date Revoked: January 6, 2013.

Reason: Failed to maintain a valid bond.

License No.: 019164N.

Name: TMMAA Line (USA), Inc.

Address: 2050 West 190th Street, Suite 105, Torrance, CA 90504.

Date Revoked: January 11, 2013.

Reason: Failed to maintain a valid bond.

License No.: 019308N.

Name: MMI Logistics, Inc.

Address: 12719 Chadron Avenue, Hawthorne, CA 90250.

Date Revoked: January 7, 2013.

Reason: Failed to maintain a valid bond.

License No.: 019744NF.

Name: Cargo Link Air Freight, Inc.

Address: Bldg. #75, Suite 237C, JFK Int'l Airport, Jamaica, NY 11430.

Date Revoked: December 30, 2012.

Reason: Failed to maintain valid bonds.

License No.: 022179N.

Name: Alnour Investments.

Address: 438 East Katella Avenue, Suite 227, Orange, CA 92867.

Date Revoked: January 2, 2013.

Reason: Failed to maintain a valid bond.

License No.: 022214N.

Name: Bernuth Express, LLC.

Address: 3201 24th Street, Miami, FL 33142.

Date Revoked: January 10, 2013.

Reason: Failed to maintain a valid bond.

License No.: 022581NF.

Name: Cargostream, LLC.

Address: 1223 Old Fort Road, Moncks Corner, SC 29461.

Date Revoked: January 6, 2013.

Reason: Failed to maintain valid bonds.

License No.: 022682NF.

Name: NC Cargo LLC.

Address: 6819 NW 84th Avenue, Miami, FL 33166.

Date Revoked: December 27, 2012.

Reason: Failed to maintain valid bonds.

License No.: 023476N.

Name: AV Logistics, L.L.C.

Address: 350 Corporate Way, Suite 250, Orange Park, FL 32073.

Date Revoked: October 29, 2012.

Reason: Voluntary Surrender of License.

License No.: 023656N.

Name: Ask-Ark, LLC.

Address: 808 Revelstore Terrace, Leesburg, VA 20176.

Date Revoked: January 2, 2013.

Reason: Failed to maintain a valid bond.

Vern W. Hill,
Director, Bureau of Certification and Licensing.

[FR Doc. 2013-02678 Filed 2-5-13; 8:45 am]

BILLING CODE 6730-01-P